DEPARTMENT OF HEALTH AND HUMAN SERVICES

Administration for Children and Families

Proposed Information Collection Activity; Survey of Youth Transitioning From Foster Care (New Collection)

AGENCY: Office of Planning, Research, and Evaluation; Administration for Children and Families; HHS

ACTION: Request for Public Comment.

SUMMARY: The Administration for Children and Families (ACF) within the U.S. Department of Health and Human Services (HHS) is proposing to collect data on human trafficking and other victimization experiences among youth recently or currently involved in the child welfare system. The goal of the one-time survey is to better understand trafficking experiences, to identify modifiable risk and protective factors associated with trafficking victimization, and to inform child welfare policy, programs, and practice.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street, SW, Washington, DC 20201, Attn: OPRE Reports Clearance Officer. All requests, emailed or written, should be identified by the title of the information collection.

SUPPLEMENTARY INFORMATION:

Description: ACF is proposing data collection as part of the study, “Survey of Youth Transitioning from Foster Care”. This Notice provides the opportunity to comment on a survey of youth with current or recent involvement in foster care.

Primary data collected includes a one-time survey with up to 780 youth aged 18 or 19 who were in foster care during their 17th year. The survey will be conducted in-person, with both field interviewer-administered items and Audio-Computer Assisted Self-Interview (ACASI) items that the youth will complete privately for sensitive topics. Survey questions will be focused on the youths' demographic data, trafficking and other victimization histories, internal and external assets, and risk and protective factors. Involvement with child welfare and juvenile justice systems, and utilization of other services will also be addressed in the data collection.

Respondents: Youth aged 18 or 19 who were in foster care during their 17th year.

Annual Burden Estimates

Data collection is expected to take place over two years.

Instrument | Total number of respondents | Annual number of respondents | Number of responses per respondent | Average burden hours per response | Annual burden hours
Survey of Youth Transitioning from Foster Care | 780 | 390 | 1 | 1.2 | 468

Estimated Total Annual Burden Hours: 468.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 476(a)(1-2) (42 U.S.C. 676) of the Social Security Act Part E-Federal Payments for Foster Care and Adoption Assistance.

Mary B. Jones,
ACF/OPRE Certifying Officer.

[FR Doc. 2019-19440 Filed 9-9-19; 8:45 am]

BILLING CODE 4184-25-P